DEPARTMENT OF TRANSPORTATION

Maritime Administration

Decommissioning and Disposition of the National Historic Landmark Nuclear Ship Savannah; Notice of Site Visit

AGENCY: Maritime Administration, Department of Transportation.

ACTION: Notice.

SUMMARY: The Maritime Administration (MARAD) announces a site visit for the National Historic Landmark Nuclear Ship Savannah (NSS). MARAD is decommissioning the nuclear power plant of the NSS, which will result in the termination of the ship's Nuclear Regulatory Commission license, making the ship available for disposition, including potential conveyance for preservation. The site visit will provide interested parties an opportunity to learn more about the NSS to assist in determining if they may wish to consider acquiring the ship for preservation purposes, as prescribed in the Programmatic Agreement (PA) covering the decommissioning and disposition of the ship.

DATES: A site visit will be held on November 16, 2024, from 10 a.m. to 4 p.m. Eastern Standard Time. Requests to attend the site visit must be received one week in advance, by November 8, 2024, to facilitate entry. Requests for accommodations for a disability must also be received one week in advance.

ADDRESSES: The site visit will be held onboard the NSS. The NSS is located at Pier 13 Canton Marine Terminal, 4601 Newgate Avenue, Baltimore, MD 21224.

FOR FURTHER INFORMATION CONTACT: Erhard W. Koehler, (202) 680-2066 or via email at marad.history@dot.gov. You may send mail to N.S. Savannah/Savannah Technical Staff, Pier 13 Canton Marine Terminal, 4601 Newgate Avenue, Baltimore, MD 21224, ATTN: Erhard Koehler.

SUPPLEMENTARY INFORMATION:

I. Background

The decommissioning and disposition of the NSS is an Undertaking under Section 106 of the National Preservation Act (NHPA) of 1966, as amended. Section 106 requires that federal agencies consider views of the public regarding their Undertakings; therefore, in 2020, MARAD established a Federal docket at https://www.regulations.gov/docket/MARAD-2020-0133 to provide public notice about the NSS Undertaking. The federal docket was also used in 2021 to solicit public comments on the future uses of the NSS. MARAD is continuing to use this same docket to take in public comment, share information, and post agency actions.

The PA for the Decommissioning and Disposition of the NSS is available on the MARAD docket located at www.regulations.gov under docket id “MARAD-2020-0133.” The PA stipulates a deliberative process by which MARAD will consider the disposition of the NSS. This process requires MARAD to make an affirmative, good-faith effort to preserve the NSS.

II. Agenda

The agenda will include (1) welcome and introductions; (2) tour of the ship: and (3) questions. The agenda will also be posted on MARAD's website at https://www.maritime.dot.gov/outreach/history/maritime-administration-history-program and on the MARAD docket located at www.regulations.gov under docket id “MARAD-2020-0133.”

III. Public Participation

The site visit will be open to the public. Members of the public who wish to attend in person or online must RSVP to the person listed in the FOR FURTHER INFORMATION CONTACT section with your name and affiliation.

Special services. The NSS is not compliant with the Americans with Disabilities Act (ADA). The ship has some capability to accommodate persons with impaired mobility. If you require accommodations to attend the site visit, please contact the person listed in the FOR FURTHER INFORMATION CONTACT section. The U.S. Department of Transportation is committed to providing all participants equal access to this meeting. If you need alternative formats or services such as sign language, interpretation, or other ancillary aids, please contact the person listed in the FOR FURTHER INFORMATION CONTACT section.

(Authority: 49 CFR 1.81 and 1.93; 36 CFR part 800; 5 U.S.C. 552b.)

By Order of the Maritime Administrator.
T. Mitchell Hudson, Jr.,
Secretary, Maritime Administration.

[FR Doc. 2024-24181 Filed 10-18-24; 8:45 am]

BILLING CODE 4910-81-P